DEPARTMENT OF THE INTERIOR

[NV-012 4700]

Notice of Intent To Prepare a Wild Horse Management Amendment to the Elko Resource Management Plan and Associated Environmental Assessment

AGENCY: Bureau of Land Management.

ACTION: Notice of intent to prepare a Wild Horse Management Amendment to the Elko Resource Management Plan (RMP) and associated environmental assessment (EA).

SUMMARY: This document provides notice that the Bureau of Land Management (BLM), Elko Field Office intends to prepare a Wild Horse Management Amendment to the Elko Resource Management Plan (1987) and an associated Environmental Assessment to address current issues for four wild horse herd areas (HAs) (Diamond Hills, Little Humboldt, Owyhee, and Rock Creek) in the Elko RMP planning area. The RMP planning area is comprised of approximately 6 million acres of land in northeastern Nevada, of which the BLM administers over 3 million acres. The four HAs are all located in Elko County, NV. They comprise approximately 657,000 acres, of which about 92 percent are public lands. Decisions to be made by the RMP Amendment include designation of “herd management areas” on public lands within these HAs where wild horses can be managed in the long term. The BLM will work collaboratively with interested parties to make decisions best suited to local, regional, state and national needs and concerns for the management of wild horses.

DATES: This notice initiates the public scoping process. Comments on issues and planning criteria can be submitted in writing to the address listed below and will be accepted within 30 days following publication of this notice in the Federal Register. The public is also invited to participate in any of three public meetings to discuss the scope of the proposed amendment and environmental assessment. All public meetings will be announced through local news media, newsletters, and the BLM Web site at least 15 days prior to the event. Meetings will be held in Elko, NV; Eureka, NV; and Reno, NV.

ADDRESSES: Written comments for this planning effort may be submitted to BLM at any of the scoping meetings; in addition, comments can be submitted in person to the BLM's Elko Field Office, 3900 Idaho Street, Elko, Nevada, 89801. Comments may also be submitted via facsimile to 775-753-0255. Please address your comments to the attention of Bryan Fuell, Wild Horse Specialist. Documents pertinent to this proposal may be examined at the BLM Elko Field Office (see address above). Preliminary scoping information will also be available at each of the scoping meetings, and may be obtained by visiting the Elko Field Office Web site at http://www.nv.blm.gov/elko. If you wish to withhold your name and/or address from public review or from disclosure under the Freedom of Information Act, you must state this prominently at the beginning of your comment. Such requests will be honored to the extent allowed by law. All submissions from an organizations or businesses, and from individuals identifying themselves as representatives or officials of organizations or businesses, will be available for public inspection in their entirety.

FOR FURTHER INFORMATION: For further information and/or to have your name added to our mailing list, contact Bryan Fuell, Wild Horse Specialist, Bureau of Land Management, Elko Field Office, 3900 Idaho Street, Elko, Nevada 89801; telephone (775) 753-0200.

SUPPLEMENTARY INFORMATION: HAs are limited to areas of public lands identified as habitat used by wild horses at time of the passage of the Wild Horse and Burro Act in 1971. The Elko RMP (1987) established four wild horse HAs (Diamond Hills, Little Humboldt, Rock Creek, Owyhee) with the objective to manage the wild horse populations and habitat in these areas consistent with other resource uses. Short- and long-term management actions prescribed by the 1987 RMP are to: (1) Manage the four herds at an appropriate management level; (2) monitor wild horse populations and habitat conditions; and (3) conduct wild horse gatherings as needed to maintain numbers. Since completion of the Elko RMP, monitoring of wild horse populations and habitat and completion of wild horse gatherings have occurred.

Approximately 657,000 acres make up the four HAs, of which 53,000 acres are privately owned lands. The Diamond Hills HA is in the southwest corner of the Elko RMP planning area. Due to its proximity to other wild horse HMAs managed by the Ely and Battle Mountain field offices of the BLM, this HA is often referred to as “Diamond Hills North.” The Little Humboldt, Rock Creek and Owyhee HAs are in the northwest portion of the planning area, and are next to HMAs that are administered by BLM's Winnemucca Field Office. The 1971 Wild Horse and Burro Act requires removal of wild horses from unfenced private land when requested by the private landowner. Verbal requests have been made to alleviate problems with wild horses on private land within the Rock Creek and Little Humboldt HAs.

The proposed Amendment would designate HMAs, which are established only on areas within HAs which wild horses can be managed for the long term. BLM planning regulations (43 CFR 1610) require preparation of planning issues and criteria to guide amendments or revisions of RMPs. A planning issue is a matter of controversy over a resource management topic that is well defined, about which a decision can be made and is within the BLM's authority and jurisdiction to resolve. Planning criteria are the constraints or ground rules that guide and direct the development of the plan or amendment, and determine how the planning team approaches the development of alternatives and, ultimately, selection of a preferred alternative. They ensure that plans are tailored to identified issues, and that unnecessary data collection and analyses are avoided. Wild horse monitoring and other information collected to support land health assessments since the 1987 Elko RMP was approved is available for use in completing analyses for this Amendment. Preliminary planning issues and criteria, developed internally, will be available for review and comment by the public during the 30-day scoping period established by this notice. The Elko Field Manager will approve the planning criteria following public scoping.

Dated: December 23, 2002.
Helen Hankins,
Field Manager, Elko Field Office.

[FR Doc. 03-3169 Filed 2-7-03; 8:45 am]

BILLING CODE 4310-HC-P